DEPARTMENT OF COMMERCE

National Oceanic and Atmospheric Administration

[I.D. 092006A]

Magnuson-Stevens Act Provisions; General Provisions for Domestic Fisheries; Application for Exempted Fishing Permit

AGENCY: National Marine Fisheries Service (NMFS), National Oceanic and Atmospheric Administration (NOAA), Commerce.

ACTION: Notice; proposal to conduct experimental fishing; request for comments.

SUMMARY: The Administrator, Northeast Region, NMFS (Regional Administrator) has made a preliminary determination that the subject exempted fishing permit (EFP) application submitted by the Gulf of Maine Research Institute (GMRI) contains all the required information and warrants further consideration. The Regional Administrator has also made a preliminary determination that the activities authorized under the EFP would be consistent with the goals and objectives of the Atlantic Sea Scallop Fishery Management Plan (FMP) and the Northeast Multispecies FMP. However, further review and consultation may be necessary before a final determination is made to issue the EFP. Therefore, NMFS announces that the Regional Administrator proposes to issue an EFP that would allow general category scallop vessels to conduct fishing operations that are otherwise restricted by the regulations governing the fisheries of the northeastern United States. The EFP would exempt vessels from certain gear restrictions, minimum fish size possession restrictions, and seasonal area restrictions.

DATES: Comments must be received on or before October 11, 2006.

ADDRESSES: Written comments should be submitted by any of the following methods:

Mail: Patricia A. Kurkul, Regional Administrator, NMFS, Northeast Regional Office, One Blackburn Drive, Gloucester, MA 01930. Mark the outside of the envelope, “Comments on Scallop RSA EFP Proposal;”

Email: 06-SCA-011@noaa.gov, include “Comment on EFP Proposal” in the subject line of the e-mail; or

Fax: (978) 281-9135.

FOR FURTHER INFORMATION CONTACT: Ryan Silva, Fishery Management Specialist, phone: 978-281-9326, fax: 978-281-9135.

SUPPLEMENTARY INFORMATION: In response to the Request for Proposals issued to solicit research proposals under the Atlantic Sea Scallop Research Set Aside (RSA) Program, GMRI submitted a proposal on November 18, 2005, entitled, “Testing Bycatch in an Observer-based Experimental Scallop Fishery Outside the Gulf of Maine (GOM) Scallop Dredge Exemption Area and within Statistical Area 521 and 526.” The grant was approved on August 4, 2006, as NOAA Award No. NA06NMF4540262. An EFP application was submitted September 7, 2006.

The project would survey the Great South Channel Dredge Exemption Area (GSC) over a 10-month period to quantify catch rates of scallops and finfish bycatch across multiple seasons using the general category regulated 3.2 m (10.5-ft) scallop dredge. From March through June, project investigators would identify the sex and maturity stage of captured yellowtail flounder to improve spawning data. Since portions of the GSC are closed seasonally to protect spawning yellowtail flounder, vessels would require an exemption from regulations at 50 CFR 648.80(a)(18)(ii)(C) and (D).

Vessels would conduct a total of 264 tows over 66 days in the study area. Each trip would be 1 day in length. Approximately four 30-minute tows would be made per day. Tow length and vessel speed, as well as all other gear characteristics, would match the standards employed by the general category fleet. For each tow, environmental data, including water temperature, wind, sea state, and weather, would be recorded. Total weight of the scallop catch would be obtained. All other species would be identified, weighed, measured, and returned to the sea as quickly as possible to minimize mortality. Since project investigators would retain fish below the minimum fish size to collect data, vessels would require exemption from minimum fish size regulations at § 648.83(a). Only marketable scallops would be retained for sale.

On approximately one third of the total number of tows, vessels would cover the 25-cm (10-inch) mesh twine top to collect dredge selectivity information, thus requiring exemption from gear requirements at § 648.51(b)(2).

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: September 20, 2006.
James P. Burgess,
Acting Director, Office of Sustainable Fisheries, National Marine Fisheries Service.

[FR Doc. E6-15685 Filed 9-25-06; 8:45 am]

BILLING CODE 3510-22-S